DEPARTMENT OF COMMERCE

Foreign-Trade Zones Board

[Order No. 1937]

Expansion of Foreign-Trade Zone 84; Houston, Texas

Pursuant to its authority under the Foreign-Trade Zones Act of June 18, 1934, as amended (19 U.S.C. 81a-81u), the Foreign-Trade Zones Board (the Board) adopts the following Order:

Whereas, the Port of Houston Authority, grantee of Foreign-Trade Zone 84, submitted an application to the Board for authority to expand FTZ 84 to include two sites in Harris County, Texas, adjacent to the Houston Customs and Border Protection port of entry (B-66-2013, docketed 6-25-2013);

Whereas, notice inviting public comment has been given in the Federal Register (78 FR 39254, 7-1-2013) and the application has been processed pursuant to the FTZ Act and the Board's regulations; and,

Whereas, the Board adopts the findings and recommendations of the examiner's report, and finds that the requirements of the FTZ Act and the Board's regulations would be satisfied if subject to a sunset provision;

Now, therefore, the Board hereby orders:

The application to expand FTZ 84 is approved, subject to the FTZ Act and the Board's regulations, including Section 400.13, to the Board's standard 2,000-acre activation limit for the overall zone, and to a sunset provision that would terminate authority on May 31, 2019, for Sites 28 and 29 where no activity has occurred under FTZ procedures before that date.

Signed at Washington, DC, this 16th day of May 2014.
Ronald K. Lorentzen,
Acting Assistant Secretary of Commerce for Enforcement and Compliance, Alternate Chairman, Foreign-Trade Zones Board.
Attest:
Andrew McGilvray,
Executive Secretary.

[FR Doc. 2014-12060 Filed 5-23-14; 8:45 am]

BILLING CODE 3510-DS-P